DEPARTMENT OF AGRICULTURE

Forest Service

Notice of New Fee Site; Federal Lands Recreation Enhancement Act (Title VIII, Pub. L. 108-447)

AGENCY: Coronado National Forest, USDA Forest Service, Tucson, AZ.

ACTION: Notice of New Fee Site.

SUMMARY: The Coronado National Forest proposes to begin charging a new $150.00 per day fee for rental of the Half Moon Ranch located 9 miles west of Sunsites, Arizona. Rental of the Cabin includes overnight use. Rental of the cabin and other facilities within the Arizona National Forests has shown that the public appreciates and enjoys the availability of historic rental facilities. Funds from the rentals will be used for the continued operation and maintenance of the Half Moon Ranch.

DATES: Half Moon Ranch will become available for rent July, 2008.

ADDRESSES: Coronado National Forest, 300 West Congress, Tucson, AZ 85701.

FOR FURTHER INFORMATION CONTACT: Kathy Makansi, Archaeologist, Coronado National Forest, (520) 760-2502.

SUPPLEMENTARY INFORMATION: The Federal Recreation Lands Enhancement Act (Title VII, Pub. L. 108-447) directed the Secretary of Agriculture to publish a six month advance notice in the Federal Register whenever new recreation fee areas are established. The Coronado National Forest currently has one other rental facility. This facility is booked regularly throughout the rental season. A business analysis for the rental of the Half Moon Ranch shows that people desire having this sort of recreation experience on the Coronado National Forest. A market analysis indicates that the $150.00 daily fee is both reasonable and acceptable for this sort of unique recreation experience. People wanting to rent the Half Moon Ranch will need to do so through the National Recreation Reservation Service, at http://www.recreation.gov or by calling 1-877-444-6777. The National Recreation Reservation Service charges a $9 fee per reservation.

Dated: November 1, 2007.
Jeanine Derby,
Forest Supervisor, Coronado National Forest.

[FR Doc. 07-5549 Filed 11-6-07; 8:45 am]

BILLING CODE 3410-11-M